DEPARTMENT OF STATE

[Public Notice 11898]

Notification of Meetings of The United States-Peru Environmental Affairs Council, Environmental Cooperation Commission, and Sub-Committee on Forest Sector Governance

ACTION: Notice of meetings and request for comments; invitation to public session.

SUMMARY: The U.S. Department of State and the Office of the United States Trade Representative (USTR) are providing notice that on November 30-December 1, 2022, the United States and Peru will hold the eighth meeting of the Environmental Affairs Council (the “Council”), the tenth meeting of the Sub-Committee on Forest Sector Governance (the “Sub-Committee”), and the sixth meeting of the Environmental Cooperation Commission (the “Commission”).

DATES: The public sessions of the Council, Commission, and Sub-Committee meetings will be held on December 1, 2022. Please contact Elizabeth Linske and Sigrid Simpson for the location of this meeting and information for virtual participation. Confirmations of attendance and comments or suggestions are requested in writing no later than November 21, 2022.

Addresses and Confirmations of Attendance: Written comments or suggestions should be submitted to both:

(1) Elizabeth Linske, U.S. Department of State, Bureau of Oceans and International Environmental and Scientific Affairs, Office of Environmental Quality, by email at LinskeE@state.gov with the subject line “UNITED STATES-PERU EAC/ECC MEETING” and

(2) Sigrid Simpson, Office of the United States Trade Representative, Office of Environment and Natural Resources, by email at Sigrid.A.Simpson@ustr.eop.gov with the subject line “UNITED STATES-PERU EAC/ECC MEETING.”

In your email, please include your full name and affiliation.

If you have access to the internet, you can view and comment on this notice by going to: http://www.regulations.gov/#!home and searching for docket number DOS-2022-0041.

FOR FURTHER INFORMATION CONTACT: Elizabeth Linske, (202) 344-9852, or Sigrid Simpson, (202) 881-6592.

SUPPLEMENTARY INFORMATION: The purpose of the three meetings, respectively, is to review implementation of Chapter 18 (Environment) of the United States-Peru Trade Promotion Agreement (PTPA); the PTPA Annex on Forest Sector Governance (Annex 18.3.4); and the United States-Peru Environmental Cooperation Agreement (ECA).

All interested persons are invited to attend the public session and to submit written comments or to ask questions regarding implementation of Chapter 18, Annex 18.3.4, and the ECA, and to raise any issues that should be discussed at the meetings consistent with their respective purposes.

In preparing comments, submitters are encouraged to refer to Chapter 18 of the PTPA, including Annex 18.3.4, and the ECA (available at https://www.state.gov/key-topics-office-of-environmental-quality-and-transboundary-issues/current-trade-agreements-with-environmental-chapters/#peru). Instructions on how to submit comments are under the heading “ADDRESSES AND CONFIRMATIONS OF ATTENDANCE.”

The PTPA entered into force on February 1, 2009. Article 18.6 of the PTPA establishes an Environmental Affairs Council, which is required to meet once a year unless otherwise agreed by the Parties to discuss the implementation of Chapter 18. Annex 18.3.4 to the PTPA establishes a Sub-Committee on Forest Sector Governance. The Sub-Committee is a specific forum for the Parties to share views and information on any matter arising under the PTPA Annex on Forest Sector Governance. The ECA entered into force on August 23, 2009. Article III of the ECA establishes an Environmental Cooperation Commission and makes the Commission responsible for developing a Work Program. Article 18.6 of the PTPA and Article VI of the ECA provide that meetings of the Council and Commission respectively include a public session, unless the Parties otherwise agree. At its first meeting, the Sub-Committee on Forest Sector Governance committed to hold a public session after each Sub-Committee meeting.

Sherry Zalika Sykes,
Director, Office of Environmental Quality, Department of State.

[FR Doc. 2022-23303 Filed 10-25-22; 8:45 am]

BILLING CODE 4710-09-P